DEPARTMENT OF TRANSPORTATION

Surface Transportation Board

[Docket No. FD 30186]

Tongue River Railroad Company, Inc.—Rail Construction and Operation—in Custer, Powder River and Rosebud Counties, Montana: Update to the Notice of Intent to Prepare an Environmental Impact Statement (EIS)

The Surface Transportation Board's Office of Environmental Analysis (OEA) issued a Notice of Intent (NOI) to prepare an EIS, a Draft Scope of Study, and a notice of scoping meetings in the above-captioned proceeding on October 22, 2012 and published it in the Federal Register on the same day. OEA is issuing this Notice because additional meetings will be held in Lame Deer, Montana, on Friday, November 16, 2012.

The additional meetings will be held at the following location on Friday, November 16, 2012 between 2-4 p.m. and 6-8 p.m.:

Chief Little Wolf Capital Building, Northern Cheyenne Tribal Chambers, 600 South Main Cheyenne Avenue, Lame Deer, MT 59043.

Please include these additional meetings on your copies accordingly. The NOI is available on the Board's Web site at www.stb.dot.gov.

By the Board.
Victoria Rutson,
Director, Office of Environmental Analysis.
Jeffrey Herzig,
Clearance Clerk.

[FR Doc. 2012-27760 Filed 11-13-12; 8:45 am]

BILLING CODE 4915-01-P